DEPARTMENT OF LABOR

Employment and Training Administration

[TA-W-41,598 and TA-W-41,598A]

Sonoco Products Company, Santa Maria Plant, Santa Maria, CA, and Mt. Olive, NC; Amended Certification Regarding Eligibility To Apply for Worker Adjustment Assistance

In accordance with section 223 of the Trade Act of 1974 (19 U.S.C. 2273) the Department of Labor issued a Certification of Eligibility to Apply for Worker Adjustment Assistance on October 4, 2002, applicable to workers of Sonoco Products Company, Santa Maria Plant, Santa Maria, California. The notice was published in the Federal Register on November 5, 2002 (67 FR 67418).

At the request of a company official, the Department reviewed the certification for workers of the subject firm. The workers produce plastic T-shirts bags. The company official reports that production has declined and worker separations have occurred at the company's plant in Mt. Olive, North Carolina.

It is the Department's intent to include all workers of the firm affected by increased imports. Therefore, the Department is amending the certification to include workers at Sonoco Products Company in Mt. Olive, North Carolina.

The amended notice applicable to TA-W-41,598 is hereby issued as follows:

“All workers of Sonoco Products Company, Santa Maria Plant, Santa Maria, California (TA-W-41,598) and Mt. Olive, North Carolina (TA-W-41,598A), engaged in employment related to the production of plastic T-shirt bags, who became totally or partially separated from employment on or after May 15, 2001, through October 4, 2004, are eligible to apply for adjustment assistance under Section 223 of the Trade Act of 1974.”

Signed at Washington, DC, this 3rd day of December 2002.
Linda G. Poole,
Certifying Officer, Division of Trade Adjustment Assistance.

[FR Doc. 02-32588 Filed 12-24-02; 8:45 am]

BILLING CODE 4510-30-P